DEPARTMENT OF HOMELAND SECURITY

Federal Emergency Management Agency

44 CFR Part 67

[Docket ID FEMA-2010-0003; Internal Agency Docket No. FEMA-B-1089]

Proposed Flood Elevation Determinations

AGENCY: Federal Emergency Management Agency, DHS.

ACTION: Proposed rule; correction.

SUMMARY: On May 25, 2010, FEMA published in the Federal Register a proposed rule that contained an erroneous table. This notice provides corrections to that table, to be used in lieu of the information published at 75 FR 29219. The table provided here represents the flooding sources, location of referenced elevations, effective and modified elevations, and communities affected for Butler County, Kentucky, and Incorporated Areas. Specifically, it addresses the following flooding sources: Barren River (backwater effects from Green River), Big Bull Creek (backwater effects from Green River), Big Reedy Creek (backwater effects from Green River), Deerlick Creek (backwater effects from Green River), Deerlick Creek Tributary 6 (backwater effects from Green River), East Prong Indian Camp Creek (backwater effects from Green River), Gary Creek (backwater effects from Green River), Grassy Lick Creek (backwater effects from Green River), Green River, Hickory Camp Creek (backwater effects from Green River), Hickory Camp Creek Tributary 1 (backwater effects from Green River), Indian Camp Creek (backwater effects from Green River), Lindsey Creek (backwater effects from Green River), Little Bull Creek (backwater effects from Green River), Little Reedy Creek (backwater effects from Green River), Meffords Branch (backwater effects from Green River), Meffords Branch Tributary 4 (backwater effects from Green River), Mud River (backwater effects from Green River), Mud River Tributary 17 (backwater effects from Green River), Mud River Tributary 17.2 (backwater effects from Green River), Muddy Creek (backwater effects from Green River), Muddy Creek Tributary 18 (backwater effects from Green River), Muddy Creek Tributary 27 (backwater effects from Green River), Muddy Creek Tributary 39.1 (backwater effects from Green River), Panther Creek (backwater effects from Green River), Pipe Spring Hollow (backwater effects from Green River), Pitman Creek (backwater effects from Green River), Pitman Creek Tributary 3 (backwater effects from Green River), Renfrow Creek (backwater effects from Green River), Renfrow Creek Tributary 6 (backwater effects from Green River), Renfrow Creek Tributary 7 (backwater effects from Green River), Renfrow Creek Tributary 8 (backwater effects from Green River), Renfrow Creek Tributary 9 (backwater effects from Green River), Rosy Creek (backwater effects from Green River), Sandy Creek (backwater effects from Green River), Sandy Creek Tributary 5 (backwater effects from Green River), Tallow Branch (backwater effects from Green River), Welch Creek (backwater effects from Green River), West Prong Indian Camp Creek (backwater effects from Green River), and Wolfpen Hollow (backwater effects from Green River).

DATES: Comments are to be submitted on or before April 1, 2013.

ADDRESSES: You may submit comments, identified by Docket No. FEMA-B-1089, to Luis Rodriguez, Chief, Engineering Management Branch, Federal Insurance and Mitigation Administration, Federal Emergency Management Agency, 500 C Street SW., Washington, DC 20472, (202) 646-4064 or (email) luis.rodriguez3@dhs.gov.

FOR FURTHER INFORMATION CONTACT: Luis Rodriguez, Chief, Engineering Management Branch, Federal Insurance and Mitigation Administration, Federal Emergency Management Agency, 500 C Street SW., Washington, DC 20472, (202) 646-4064 or (email) luis.rodriguez3@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 29219, in the May 25, 2010, issue of the Federal Register, FEMA published a table under the authority of 44 CFR 67.4. The table, entitled “Butler County, Kentucky, and Incorporated Areas” addressed the following flooding sources: Barren River (backwater effects from Green River), Big Bull Creek (backwater effects from Green River), Big Reedy Creek (backwater effects from Green River), Deerlick Creek (backwater effects from Green River), Deerlick Creek Tributary 6 (backwater effects from Green River), East Prong Indian Camp Creek (backwater effects from Green River), Gary Creek (backwater effects from Green River), Grassy Lick Creek (backwater effects from Green River), Green River, Hickory Camp Creek (backwater effects from Green River), Hickory Camp Creek Tributary 1 (backwater effects from Green River), Indian Camp Creek (backwater effects from Green River), Lindsey Creek (backwater effects from Green River), Little Bull Creek (backwater effects from Green River), Little Reedy Creek (backwater effects from Green River), Meffords Branch (backwater effects from Green River), Meffords Branch Tributary 4 (backwater effects from Green River), Mud River (backwater effects from Green River), Mud River Tributary 17 (backwater effects from Green River), Mud River Tributary 17.2 (backwater effects from Green River), Muddy Creek (backwater effects from Green River), Muddy Creek Tributary 18 (backwater effects from Green River), Muddy Creek Tributary 27 (backwater effects from Green River), Muddy Creek Tributary 39.1 (backwater effects from Green River), Panther Creek (backwater effects from Green River), Pipe Spring Hollow (backwater effects from Green River), Pitman Creek (backwater effects from Green River), Pitman Creek Tributary 3 (backwater effects from Green River), Renfrow Creek (backwater effects from Green River), Renfrow Creek Tributary 6 (backwater effects from Green River), Renfrow Creek Tributary 7 (backwater effects from Green River), Renfrow Creek Tributary 8 (backwater effects from Green River), Renfrow Creek Tributary 9 (backwater effects from Green River), Rosy Creek (backwater effects from Green River), Sandy Creek (backwater effects from Green River), Sandy Creek Tributary 5 (backwater effects from Green River), Tallow Branch (backwater effects from Green River), Welch Creek (backwater effects from Green River), West Prong Indian Camp Creek (backwater effects from Green River), and Wolfpen Hollow (backwater effects from Green River). That table contained inaccurate information as to the communities affected for the flooding source Green River. In this notice, FEMA is publishing a table containing the accurate information to address these prior errors. The information provided below should be used in lieu of that previously published.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Butler County, Kentucky, and Incorporated Areas
Barren River (backwater effects from Green River) | From the confluence with the Green River to approximately 0.6 mile upstream of the confluence with Little Muddy Creek | +423 | +424 | Unincorporated Areas of Butler County.
Big Bull Creek (backwater effects from Green River) | From the confluence with the Green River to approximately 0.5 mile upstream of Johnson Cemetery Road | None | +428 | Unincorporated Areas of Butler County.
Big Reedy Creek (backwater effects from Green River) | From the confluence with the Green River to approximately 1,202 feet downstream of the confluence with Big Reedy Creek Tributary 4 | None | +433 | Unincorporated Areas of Butler County.
Deerlick Creek (backwater effects from Green River) | From the confluence with the Mud River to approximately 935 feet upstream of Penrod Road | None | +404 | Unincorporated Areas of Butler County.
Deerlick Creek Tributary 6 (backwater effects from Green River) | From the confluence with Deerlick Creek to approximately 765 feet upstream of the confluence with Deerlick Creek | None | +404 | Unincorporated Areas of Butler County.
East Prong Indian Camp Creek (backwater effects from Green River) | From the confluence with Indian Camp Creek to approximately 1,179 feet downstream of the confluence with East Prong Indian Camp Creek | None | +415 | Unincorporated Areas of Butler County.
Gary Creek (backwater effects from Green River) | From the confluence with Little Reedy Creek to approximately 0.9 mile upstream of the confluence with Little Reedy Creek | None | +429 | Unincorporated Areas of Butler County.
Grassy Lick Creek (backwater effects from Green River) | From the confluence with Muddy Creek to approximately 1.1 mile downstream of Sandy Creek Road | None | +407 | Unincorporated Areas of Butler County.
Green River | At the confluence with the Mud River | +403 | +404 | City of Morgantown, City of Rochester, City of Woodbury, Unincorporated Areas of Butler County.
| At approximately 1.7 mile upstream of Reedyville Road | +437 | +438
Hickory Camp Creek (backwater effects from Green River) | From the confluence with Panther Creek to approximately 478 feet upstream of the confluence with Hickory Camp Creek Tributary 1 | +403 | +405 | Unincorporated Areas of Butler County.
Hickory Camp Creek Tributary 1 (backwater effects from Green River) | From the confluence with Hickory Camp Creek to approximately 676 feet upstream of the confluence with Hickory Camp Creek | None | +405 | Unincorporated Areas of Butler County.
Indian Camp Creek (backwater effects from Green River) | From the confluence with the Green River to approximately 1.1 mile downstream of Dexterville-Gilstrap Road | None | +415 | Unincorporated Areas of Butler County.
Lindsey Creek (backwater effects from Green River) | From the confluence with East Prong Indian Camp Creek to approximately 0.4 mile downstream of Brownsville Road | None | +415 | Unincorporated Areas of Butler County.
Little Bull Creek (backwater effects from Green River) | From the confluence with the Green River to approximately 0.6 mile upstream of the confluence with Tallow Branch | None | +425 | Unincorporated Areas of Butler County.
Little Reedy Creek (backwater effects from Green River) | From the confluence with the Green River to approximately 0.9 mile upstream of the confluence with Rosy Creek | None | +429 | Unincorporated Areas of Butler County.
Meffords Branch (backwater effects from Green River) | From the confluence with the Mud River to approximately 1,425 feet upstream of Perry Harper Road | None | +404 | Unincorporated Areas of Butler County.
Meffords Branch Tributary 4 (backwater effects from Green River) | From the confluence with Meffords Branch to approximately 0.6 mile upstream of the confluence with Meffords Branch | None | +404 | Unincorporated Areas of Butler County.
Mud River (backwater effects from Green River) | From the confluence with the Green River to approximately 2.2 miles upstream of the confluence with Deerlick Creek | +403 | +404 | Unincorporated Areas of Butler County, City of Rochester.
Mud River Tributary 17 (backwater effects from Green River) | From the confluence with the Green River to approximately 314 feet upstream of Rochester Road | +403 | +404 | Unincorporated Areas of Butler County, City of Rochester.
Mud River Tributary 17.2 (backwater effects from Green River) | From the confluence with Mud River Tributary 17 to approximately 312 feet upstream of Rochester Road | None | +404 | Unincorporated Areas of Butler County.
Muddy Creek (backwater effects from Green River) | From the confluence with the Green River to approximately 877 feet upstream of the confluence with Muddy Creek Tributary 18 | None | +407 | Unincorporated Areas of Butler County.
Muddy Creek Tributary 18 (backwater effects from Green River) | From the confluence with Muddy Creek to approximately 1,306 feet upstream of the confluence with Muddy Creek | None | +407 | Unincorporated Areas of Butler County.
Muddy Creek Tributary 27 (backwater effects from Green River) | From the confluence with Muddy Creek to approximately 1,421 feet downstream of Muddy Creek Tributary 27.2 | None | +407 | Unincorporated Areas of Butler County.
Muddy Creek Tributary 39.1 (backwater effects from Green River) | From the confluence with Muddy Creek to approximately 669 feet downstream of Muddy Creek Tributary 39.1 | None | +407 | Unincorporated Areas of Butler County.
Panther Creek (backwater effects from Green River) | From the confluence with the Green River to approximately 1,550 feet downstream of G. Southerland Road | +403 | +405 | Unincorporated Areas of Butler County.
Pipe Spring Hollow (backwater effects from Green River) | From the confluence with the Green River to just downstream of William H. Natcher Parkway | +409 | +408 | Unincorporated Areas of Butler County.
Pitman Creek (backwater effects from Green River) | From the confluence with Welch Creek to approximately 554 feet upstream of the confluence with Pitman Creek Tributary 3 | None | +419 | Unincorporated Areas of Butler County.
Pitman Creek Tributary 3 (backwater effects from Green River) | From the confluence with Pitman Creek to approximately 280 feet upstream of the confluence with Pitman Creek | None | +419 | Unincorporated Areas of Butler County.
Renfrow Creek (backwater effects from Green River) | From the confluence with the Green River to approximately 177 feet downstream of Bowling Green Road | None | +419 | Unincorporated Areas of Butler County.
Renfrow Creek Tributary 6 (backwater effects from Green River) | From the confluence with Renfrow Creek to approximately 1,236 feet downstream of Embry Way | None | +419 | Unincorporated Areas of Butler County.
Renfrow Creek Tributary 7 (backwater effects from Green River) | From the confluence with Renfrow Creek to just downstream of South Main Street | None | +419 | Unincorporated Areas of Butler County.
Renfrow Creek Tributary 8 (backwater effects from Green River) | From the confluence with Renfrow Creek to approximately 0.5 mile upstream of the confluence with Renfrow Creek | None | +419 | Unincorporated Areas of Butler County.
Renfrow Creek Tributary 9 (backwater effects from Green River) | From the confluence with Renfrow Creek to just upstream of East Whalen Road | None | +419 | Unincorporated Areas of Butler County.
Rosy Creek (backwater effects from Green River) | From the confluence with Little Reedy Creek to approximately 0.7 mile upstream of the confluence with Little Reedy Creek | None | +429 | Unincorporated Areas of Butler County.
Sandy Creek (backwater effects from Green River) | From the confluence with Muddy Creek to approximately 494 feet downstream of Martin Road | None | +407 | Unincorporated Areas of Butler County.
Sandy Creek Tributary 5 (backwater effects from Green River) | From the confluence with Sandy Creek to just upstream of Dunbar-Leetown Road | None | +407 | Unincorporated Areas of Butler County.
Tallow Branch (backwater effects from Green River) | From the confluence with Little Bull Creek to approximately 0.5 mile upstream of the confluence with Little Bull Creek | None | +426 | Unincorporated Areas of Butler County.
Welch Creek (backwater effects from Green River) | From the confluence with the Green River to just downstream of Brownsville Road | None | +419 | Unincorporated Areas of Butler County.
West Prong Indian Camp Creek (backwater effects from Green River) | From the confluence with Indian Camp Creek to approximately 3.7 miles upstream of the confluence with Indian Camp Creek | None | +414 | Unincorporated Areas of Butler County.
Wolfpen Hollow (backwater effects from Green River) | From the confluence with East Prong Indian Camp Creek to approximately 1,205 feet downstream of McKendree Chapel Road | None | +415 | Unincorporated Areas of Butler County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
Addresses
City of Woodbury
Maps are available for inspection at 1 Lock 4 Road, Woodbury, KY 42288.
City of Morgantown
Maps are available for inspection at City Hall, 117 North Main Street, Morgantown, KY 42261.
City of Rochester
Maps are available for inspection at City Hall, 672 Russellville Street, Rochester, KY 42273.
Unincorporated Areas of Butler County
Maps are available for inspection at the County Courthouse, 110 North Main Street, Morgantown, KY 42261.

(Catalog of Federal Domestic Assistance No. 97.022, “Flood Insurance.”)

James A. Walke,
Acting Deputy Associate Administrator for Mitigation, Department of Homeland Security, Federal Emergency Management Agency.

[FR Doc. 2012-31409 Filed 12-28-12; 8:45 am]

BILLING CODE 9110-12-P